SUSQUEHANNA RIVER BASIN COMMISSION

Commission Meeting

AGENCY: Susquehanna River Basin Commission.

ACTION: Notice.

SUMMARY: The Susquehanna River Basin Commission will hold its regular business meeting on December 12, 2013, in Annapolis, Maryland. Details concerning the matters to be addressed at the business meeting are contained in the Supplementary Information section of this notice.

DATES: December 12, 2013, at 8:30 a.m.

ADDRESSES: Lowe House Office Building, House of Delegates, Prince George's Delegation (Room #150), 6 Bladen Street, Annapolis, Md. 21401. (The recommended parking and transportation option is to park at the Navy-Marine Corps Memorial Stadium and take the Annapolis Transit Trolley Shuttle from there—for all available parking options, see http://www.downtownannapolis.org/_pages/transport/tr_parking.htm.)

FOR FURTHER INFORMATION CONTACT: Richard A. Cairo, General Counsel, telephone: (717) 238-0423, ext. 1306; fax: (717) 238-2436.

Opportunity To Appear and Comment

Interested parties are invited to attend the business meeting and encouraged to review the Commission's Public Meeting Rules of Conduct, which are posted on the Commission's Web site, www.srbc.net. As identified in the public hearing notice referenced below, written comments on the Regulatory Program projects that were the subject of the public hearing, and are listed for action at the business meeting, are subject to a comment deadline of November 25, 2013. The 2013 update of the Comprehensive Plan listed for Commission action was the subject of a public hearing conducted by the Commission on August 15, 2013, and as identified in the notice for such hearing, which was published in 78 FR 38782, June 27, 2013, was subject to a comment deadline of August 26, 2013.Written comments pertaining to any other matters listed for action at the business meeting may be mailed to the Susquehanna River Basin Commission, 4423 North Front Street, Harrisburg, Pennsylvania 17110-1788, or submitted electronically through http://www.srbc.net/pubinfo/publicparticipation.htm. Any such comments mailed or electronically submitted must be received by the Commission on or before December 6, 2013, to be considered.

SUPPLEMENTARY INFORMATION: The business meeting will include actions or presentations on the following items: (1) Informational presentation of general interest on the lower Susquehanna River; (2) resolution concerning FY-2015 federal funding of the Susquehanna Flood Forecast and Warning System and National Streamflow Information Program; (3) 2013 update of the Comprehensive Plan for the Water Resources of the Susquehanna River; (4) sale of the former headquarters property at 1721 North Front Street, Harrisburg, Pa.; (5) ratification/approval of contracts/grants; and (6) Regulatory Program projects. Projects listed for Commission action are those that were the subject of a public hearing conducted by the Commission on November 13, 2013, and identified in the notice for such hearing, which was published in 78 FR 64260, October 28, 2013.

Authority: Public Law 91-575, 84 Stat. 1509 et seq., 18 CFR parts 806, 807, and 808.

Dated: November 7, 2013.
Andrew D. Dehoff,
Executive Director.

[FR Doc. 2013-27652 Filed 11-18-13; 8:45 am]

BILLING CODE 7040-01-P